DEPARTMENT OF HEALTH AND HUMAN SERVICES

Centers for Disease Control and Prevention

Disease, Disability, and Injury Prevention and Control; Special Emphasis Panel (SEP): Grants for Education Programs in Occupational Safety and Health, Program Announcement #02001

In accordance with section 10(a)(2) of the Federal Advisory Committee Act (Pub. L. 92-463), the Centers for Disease Control and Prevention (CDC) announces the following meeting:

Name: Disease, Disability, and Injury Prevention and Control Special Emphasis Panel (SEP): Grants for Education Programs in Occupational Safety and Health, Program Announcement #02001.

Times and Dates:

7 p.m.-7:25 p.m., February 17, 2002 (Open)

7:30 p.m.-10:15 p.m., February 17, 2002 (Closed)

8 a.m.-6 p.m., February 18, 2002 (Closed)

8 a.m.-6:30 p.m., February 19, 2002 (Closed)

8 a.m.-1 p.m., February 20, 2002 (Closed)

Place: Trade Winds Sandpiper Hotel, 6000 Gulf Boulevard, St. Pete Beach, Florida 33706.

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of applications received in response to Program Announcement #02001.

CONTACT PERSON FOR MORE INFORMATION: Bernadine Kuchinski, Ph.D., Occupational Health Consultant, National Institute for Occupational Safety and Health, CDC, 1600 Clifton Road, NE, M/S D40, telephone (404) 639-3342.

The Director, Management Analysis and Services Office has been delegated the authority to sign Federal Register notices pertaining to announcements of meetings and other committee management activities, for both the Centers for Disease Control and Prevention and the Agency for Toxic Substances and Disease Registry.

Dated: January 16, 2002.
Alvin Hall,
Acting Director, Management Analysis and Services Office, Centers for Disease Control and Prevention (CDC).

[FR Doc. 02-1718 Filed 1-23-02; 8:45 am]

BILLING CODE 4163-19-P